DEPARTMENT OF COMMERCE

Foreign-Trade Zones Board

[Docket 41-2009]

Foreign-Trade Zone 158—Vicksburg/Jackson, MS, Application for Subzone; Max Home, LLC (Upholstered Furniture); Fulton and Iuka, MS

An application has been submitted to the Foreign-Trade Zones Board (the Board) by the Greater Mississippi Foreign-Trade Zone, Inc., FTZ 158, requesting special-purpose subzone status for the upholstered furniture manufacturing facilities of Max Home, LLC (Max Home), located in Fulton and Iuka, Mississippi. The application was submitted pursuant to the provisions of the Foreign-Trade Zones Act, as amended (19 U.S.C. 81a-81u), and the regulations of the Board (15 CFR part 400). It was formally filed on October 6, 2009.

The Max Home facilities (348 employees) consist of two sites on 35 acres: Site 1 (26 acres) is located at 101 Max Place, Fulton, Mississippi; and Site 2 (9 acres) is located at 1509 Paul Edmondson Drive, Iuka, Mississippi. The facilities are used to produce upholstered furniture (up to 170,000 sofas, sleep sofas, chairs, and sectionals combined annually) and cut-and-sewn upholstery covers for the U.S. market and export. The application proposes that Max Home utilize foreign-origin “micro-denier suede” fabric to be cut and sewn into furniture upholstery covers under FTZ procedures. The finished upholstery covers (HTSUS 9401.90; duty free) would then be assembled into finished chairs, seats, sofas, sleep sofas, and sectionals manufactured by Max Home at the facilities.

The proposed scope of authority under FTZ procedures would only involve duty savings on foreign-origin, micro-denier suede fabrics (classified under HTSUS Headings 5407, 5512, 5515, 5516, 5903, 5906, 6001, 6005, 6006; duty rate range: 2.7-17.2%) finished with a caustic soda wash process, which the applicant indicates are not produced by U.S. mills. The application indicates that Max Home does not seek FTZ benefits on any of the other foreign fabrics used in production at the facilities (i.e., full duties would be paid on all such fabrics). All other material inputs used in production would be domestic-status.

FTZ procedures would exempt Max Home from customs duty payments on the foreign micro-denier suede fabric used in export production. On micro-denier suede fabric used in production for the U.S. market, Max Home could elect the finished upholstery cover (i.e., furniture part) duty rate (free) after the fabric has been cut, sewn, and formed into upholstery covers, at which time they are entered for consumption from the zone. Max Home would also have the option to elect the finished furniture duty rate (free) for the subject fabric when the finished furniture is entered for domestic consumption. The application indicates that the savings from FTZ procedures would help improve the facilities' international competitiveness.

In accordance with the Board's regulations, Pierre Duy of the FTZ Staff is designated examiner to evaluate and analyze the facts and information presented in the application and case record and to report findings and recommendations to the Board.

Public comment is invited from interested parties. Submissions (original and 3 copies) shall be addressed to the Board's Executive Secretary at the following address: Office of the Executive Secretary, Room 2111, U.S. Department of Commerce, 1401 Constitution Avenue, NW., Washington, DC 20230-0002. The closing period for receipt of comments is December 14, 2009. Rebuttal comments in response to material submitted during the foregoing period may be submitted during the subsequent 15-day period to December 28, 2009.

A copy of the application will be available for public inspection at the Office of the Foreign-Trade Zones Board's Executive Secretary at the address listed above and in the “Reading Room” section of the Board's Web site, which is accessible via http://www.trade.gov/ftz. For further information, contact Pierre Duy at Pierre_Duy@ita.doc.gov or (202) 482-1378.

Dated: October 6, 2009.
Elizabeth Whiteman,
Acting Executive Secretary.

[FR Doc. E9-24601 Filed 10-9-09; 8:45 am]

BILLING CODE 3510-DS-P